DEPARTMENT OF THE INTERIOR

Fish and Wildlife Service

Notice of Availability of the Draft Comprehensive Conservation Plan and Environmental Assessment for Kern and Pixley National Wildlife Refuges

AGENCY: Fish and Wildlife Service, Interior.

ACTION: Notice of availability.

SUMMARY: The U.S. Fish and Wildlife Service (Service) announces that a Draft Comprehensive Conservation Plan and Environmental Assessment (Draft CCP/EA) for Kern and Pixley National Wildlife Refuges (Refuges) is available for review and comment. This Draft CCP/EA, prepared pursuant to the National Wildlife Refuge System Administration Act, as amended, and the National Environmental Policy Act of 1969, describes the Service's proposal for managing the Refuges for the next 15 years. The draft compatibility determinations for several public uses are also available for review with the Draft CCP/EA.

DATES: Written comments must be received at the address below by July 30, 2004.

ADDRESSES: Comments on the Draft CCP/EA should be addressed to: David Hardt, Project Leader, Kern and Pixley National Wildlife Refuges, P.O. Box 670, Delano, California 93216. Comments may also be submitted at the public meetings or via electronic mail to FW1PlanningComments@fws.gov. Please type “Kern CCP” in the subject line.

FOR MORE INFORMATION CONTACT: David Hardt, Project Leader, Kern and Pixley National Wildlife Refuges, P.O. Box 670, Delano, CA 93216, phone: (661) 725-2767 or Mark Pelz, Planning Team Leader, CA/NV Refuge Planning Office, 2800 Cottage Way, W-1916, Sacramento, CA, 95825, phone (916) 414-6504.

SUPPLEMENTARY INFORMATION: Copies of the Draft CCP/EA may be obtained by writing to the U.S. Fish and Wildlife Service, Attn: Mark Pelz, CA/NV Refuge Planning Office, 2800 Cottage Way, W-1916, Sacramento, CA 95825. Copies of the Draft CCP/EA may be viewed at this address or at Kern National Wildlife Refuge, 10811 Corcoran Road, Delano, California 93215. The Draft CCP/EA will also be available for viewing and downloading online at http://pacific.fws.gov/planning. Printed documents will also be available for review at the following libraries: Beale Memorial Library, 701 Truxtun Avenue, Bakersfield, California, and the Kern County Library, Delano Branch, 925 10th Avenue, Delano, California.

Background

Kern National Wildlife Refuge is located in the southern portion of California's San Joaquin Valley, in Kern County. It was established in 1960 to provide wintering habitat for waterfowl in the southern San Joaquin Valley. Kern Refuge consists of a single, 10,618-acre unit owned by the Service. Kern Refuge's seasonal wetlands are an important wintering area for Pacific Flyway waterfowl and other waterbirds, and a popular destination for southern California hunters. The Refuge's grassland, alkali scrub, and riparian communities support four endangered species and several other special status species.

Pixley National Wildlife Refuge is located northeast of Kern Refuge in Tulare County. Pixley Refuge was set aside in 1959 to provide wintering habitat for waterfowl. Later, it was expanded to protect the habitat for the endangered blunt-nosed leopard lizard and Tipton kangaroo rat. The Pixley Refuge acquisition boundary contains about 10,300 acres, of which about 62 percent is owned by the Federal government. Pixley Refuge protects mostly grassland and smaller amounts of alkali playa, saltbush scrub, vernal pools, and riparian habitat. Pixley Refuge also has 756 acres of moist soil wetlands that are managed for wintering waterfowl and sandhill cranes.

Purpose and Need for Action

The purpose of the CCP is to provide a coherent, integrated set of management actions to help attain the Refuges' establishing purposes, and vision, goals, and objectives. The CCP identifies the Refuges' role in support of the mission of the National Wildlife Refuge System, describes the Service's management actions, and provides a basis for the Refuges' budget requests.

Alternatives

The Draft CCP/EA identifies and evaluates four alternatives for managing Kern and Pixley Refuges for the next 15 years. The proposed action is to implement Alternative C as described in the EA. Alternative C best achieves Kern and Pixley Refuges' purposes, vision, and goals; contributes to the Refuge System mission; addresses the significant issues and relevant mandates; and is consistent with principles of sound fish and wildlife management.

Under Alternative A: No Action, the Kern and Pixley Refuges would continue to be managed as they have in the recent past. In general, management of the Refuges would be guided by Master Plans completed in 1986. Existing habitat management practices would continue and no new habitat restoration projects would occur. The existing hunting, wildlife observation, photography, environmental education, and interpretation programs would remain unchanged.

Under Alternative B, improvements at Kern Refuge would focus on improving habitat for migratory waterfowl and increasing waterfowl hunting opportunities. Under this alternative, the Service would rehabilitate 1,150 acres of seasonal marsh and restore seven acres of riparian vegetation. In addition, the Service would open an additional 187 acres to free-roam hunting, 1,330 acres to hunting from 18 new designated blinds, and open the Refuge to hunting on Sundays (in addition to Wednesday and Saturday). Alternative B would also expand Kern Refuge's environmental education and interpretation programs and an outdoor recreation planner would be hired. Changes at Pixley Refuge under Alternative B would focus on improving and expanding the Refuge's existing threatened and endangered species management and environmental education and interpretation programs. The Service would pursue acquisition of the remaining natural lands within the Refuge's approved acquisition boundary and expand surveying and monitoring for special status species. The Service would also expand aerial surveys for waterfowl and restore five acres of riparian vegetation.

Under Alternative C (the proposed action), the management focus for Kern Refuge would change to providing wintering habitat for a variety of migratory birds and contributing to the recovery of targeted special status species. Under this alternative, the Service would rehabilitate 1,330 acres of seasonal marsh; expand aerial surveys of waterfowl and ground surveys of shorebirds, waterbirds, raptors, and special status species; strengthen levees to protect upland units from flooding; eradicate 90 percent of the salt cedar on the Refuge within 10 years; restore 440 acres of saltbush scrub; restore 15 acres of riparian vegetation; prepare a comprehensive surveying and monitoring plan for special status species; and prepare a grassland management plan. The Service would also expand Kern Refuge's hunt area and add nine new spaced blinds, expand the environmental education and interpretation programs substantially, construct a new tour route, and build two new photo blinds. Changes at Pixley Refuge under Alternative C would be similar to those under Alternative B. In addition, the Service would substantially expand its surveying, monitoring, and research program for threatened and endangered species and prepare a grassland management plan. The Refuge would also seek approval to prepare a land protection plan that explores options for providing linkages between Pixley Refuge units and State-owned habitat to the south. Alternative C would also include developing a 272-acre grain unit to provide foraging habitat for sandhill cranes, restoring 10 acres of riparian habitat, and expanding surveys for waterbirds and raptors. Pixley Refuge's environmental education and interpretation programs would be expanded and a new pullout and interpretive displays would be developed.

Changes under Alternative D at Kern and Pixley Refuges are similar to those described under Alternative C, with the following exceptions. The Service would substantially modify management of moist soil units at both Refuges to encourage native waterfowl food plants and improve habitat for shorebirds. In addition, the size of the hunt area at Kern Refuge would be reduced by about 38 percent and two new tour routes would be constructed. The Service would also restore more riparian habitat under Alternative D-30 acres at Kern Refuge and 20 acres at Pixley Refuge.

Public Comments

After the review and comment period ends for this Draft CCP/EA, comments will be analyzed by the Service and addressed in the Final CCP. All comments received from individuals, including names and addresses, become part of the official public record and may be released. Requests for such comments will be handled in accordance with the Freedom of Information Act, the Council on Environmental Quality's NEPA regulations and other Service and Departmental policies and procedures.

Dated: June 21, 2004.
David G. Paullin,
Manager, California/Nevada Operations, Sacramento, California.

[FR Doc. 04-14528 Filed 6-24-04; 8:45 am]

BILLING CODE 4310-55-P